DEPARTMENT OF LABOR

Employment and Training Administration

[TA-W-54,899]

Zilog, Inc., Nampa, ID; Dismissal of Application for Reconsideration

Pursuant to 29 CFR 90.18(C) an application for administrative reconsideration was filed with the Director of the Division of Trade Adjustment Assistance for workers at Zilog, Inc., Nampa, Idaho. The application contained no new substantial information which would bear importantly on the Department's determination. Therefore, dismissal of the application was issued.

PTA-W-54,899; Zilog, Inc. Napma, Idaho (September 1, 2004)

Signed at Washington, DC this 8th day of September 2004.
Linda G. Poole,
Certifying Officer, Division of Trade Adjustment Assistance.

[FR Doc. 04-20867 Filed 9-15-04; 8:45 am]

BILLING CODE 4510-30-M